DEPARTMENT OF AGRICULTURE

U.S. Codex Office

Codex Alimentarius Commission: Meeting of the Codex Committee on Contaminants in Foods

AGENCY: U.S. Codex Office, U.S. Department of Agriculture (USDA).

ACTION: Notice of public meeting and request for comments.

SUMMARY: The U.S. Codex Office is sponsoring a public meeting on May 29, 2025. The objective of the public meeting is to provide information and receive public comments on agenda items to be discussed at the 18th Session of the Codex Committee on Contaminants in Foods (CCCF18) of the Codex Alimentarius Commission (CAC). CCCF18 will be held in Bangkok, Thailand, from June 23-27, 2025. The U.S. Manager for Codex Alimentarius and the Under Secretary for Trade and Foreign Agricultural Affairs recognize the importance of providing interested parties the opportunity to obtain background information on the 18th Session of the CCCF and to address items on the agenda.

DATES: The public meeting is scheduled for May 29, 2025, from 1-4 p.m. ET.

ADDRESSES: The public meeting will take place via Video Teleconference only. Documents related to the 18th Session of the CCCF will be accessible via the internet at the following address: https://www.fao.org/fao-who-codexalimentarius/meetings/detail/en/?meeting=CCCF&session=18.

Dr. Lauren Posnick Robin, U.S. Delegate to the 18th Session of the CCCF, invites interested U.S. parties to submit their comments electronically to the following email address: Quynh-Anh Nguyen, quynh-anh.nguyen@fda.hhs.gov. Comments should state that they relate to activities of the 18th Session of the CCCF.

Registration: Attendees may register to attend the public meeting at the following link: https://www.zoomgov.com/meeting/register/OWbV16_zQPWdyBTZAoFFcA. After registering, you will receive a confirmation email containing information about joining the meeting.

For further information about the 18th Session of the CCCF, contact U.S. Delegate, Dr. Lauren Posnick Robin, Acting Director, Division of Chemical Contaminants, Office of Post Market Assessment, Office of Food Chemical Safety, Dietary Supplements, and Innovation, Human Foods Program, U.S. Food and Drug Administration, at lauren.robin@fda.hhs.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Codex Committee on Contaminants in Foods (CCCF) are:

(a) to establish or endorse permitted maximum levels or guidelines levels for contaminants and naturally occurring toxicants in food and feed;

(b) to prepare priority lists of contaminants and naturally occurring toxicants for risk assessment by the Joint Expert Committee on Food Additives;

(c) to consider methods of analysis and sampling for the determination of contaminants and naturally occurring toxicants in food and feed;

(d) to consider and elaborate standards or codes of practice for related subjects; and

(e) to consider other matters assigned to it by the Commission in relation to contaminants and naturally occurring toxicants in food and feed.

The Netherlands hosts the CCCF and is co-hosting the 18th Session of the CCCF with Thailand. The United States attends the CCCF as a member country of Codex.

Issues To Be Discussed at the Public Meeting

The following items from the agenda for the 18th Session of the CCCF will be discussed during the public meeting:

• Matters referred to the Committee by the Codex Alimentarius Commission and/or its subsidiary bodies

• Matters of interest arising from the Joint Expert Committee on Food Additives

• Matters of interest arising from other international organizations

• Maximum levels for lead in certain food categories

• Code of practice for the prevention and reduction of cadmium contamination in foods

• Sampling plans for total aflatoxins and ochratoxin A in certain spices

• Maximum level and associated sampling plan for total aflatoxins in ready-to-eat peanuts

• Revision of the Code of practice for the prevention and reduction of aflatoxin contamination in peanuts (CXC 55-2004)

• Review of the Code of practice for weed control to prevent and reduce pyrrolizidine alkaloid contamination in food and feed (CXC 74-2014)

• Guidance on sampling and analysis performance characteristics for the collection of data for submission to the GEMS/Food database

• Review of the Code of practice for the reduction of acrylamide in foods (CXC 67-2009)

• Review of the Code of practice for the reduction of aflatoxin B1 in raw materials and supplemental feeding stuffs for milk-producing animals (CXC 45-1997)

• Development of a Code of practice for the prevention and reduction of tropane alkaloids in food and feed

• Guidance on data analysis for the development of maximum levels and for improved data collection

• Review of numeric performance criteria for methods of analysis for total aflatoxins utilizing the sum of components concept in relevant sampling plans

• Application of maximum levels to multi-ingredient products

• Analysis of occurrence data of lead in spice mixtures

• Analysis of occurrence data of aflatoxins in cereals

• Review of Codex standards for contaminants

• Follow-up work on the outcomes of JECFA evaluations and expert consultations

• Priority list of contaminants for evaluation by JECFA

• Other business

Public Meeting

At the May 29, 2025, public meeting, agenda items will be described and attendees will have the opportunity to pose questions and offer comments. Written comments may be offered at the meeting or sent to Quynh-Anh Nguyen at quynh-anh.nguyen@fda.hhs.gov. Written comments should state that they relate to activities of the 18th Session of the CCCF.

Additional Public Notification

Public awareness of all segments of rulemaking and policy development is important. Consequently, the U.S. Codex Office will announce this Federal Register publication on-line through the USDA Codex web page located at: http://www.usda.gov/codex.

Done at Washington, DC, on March 20, 2025.
Julie Chao,
Deputy U.S. Manager for Codex Alimentarius.

[FR Doc. 2025-05088 Filed 3-25-25; 8:45 am]

BILLING CODE 3420-3F-P